DEPARTMENT OF THE TREASURY

Customs Service

Extension of Duty-Free Treatment for Certain Agricultural Products of Israel

AGENCY: United States Customs Service, Department of the Treasury.

ACTION: General notice.

SUMMARY: This document informs the public of the extension of duty-free treatment for certain agricultural products of Israel and advises the public of the procedures that are available to ensure that duty-free treatment will be accorded to eligible products that were entered, or withdrawn from warehouse for consumption, between January 1, 2002, and the date of publication of this notice.

FOR FURTHER INFORMATION CONTACT: Connie Chancey, Quota Branch, Office of Field Operations (202-927-5850).

SUPPLEMENTARY INFORMATION:

Background

On April 22, 1985, the United States and Israel entered into the Agreement on the Establishment of a Free Trade Area between the Government of the United States of America and the Government of Israel (“the FTA Agreement”) which was approved by Congress in the United States-Israel Free Trade Area Implementation Act of 1985 (“the FTA Act,” codified at 19 U.S.C. 2112 Note). Section 4(b) of the FTA Act provides that, whenever the President determines that it is necessary to maintain the general level of reciprocal and mutually advantageous concessions with respect to Israel provided for by the FTA Agreement, the President may proclaim such withdrawal, suspension, modification, or continuance of any duty, or such continuance of existing duty-free or excise treatment, or such additional duties, as the President determines to be required or appropriate to carry out the FTA Agreement.

On November 4, 1996, the United States entered into an agreement with Israel concerning certain aspects of trade in agricultural products, effective from December 4, 1996, through December 31, 2001 (“the 1996 Agreement”), in order to maintain the general level of reciprocal and mutually advantageous concessions with respect to agricultural trade while acknowledging differing interpretations as to the meaning of certain rights and obligations in the FTA Agreement as to that trade. Accordingly, pursuant to section 4(b) of the FTA Act, President Clinton issued Proclamation 6962 of December 2, 1996, in order to provide to Israel, through the close of December 31, 2001, access into customs territory of the United States for specified quantities of certain agricultural products of Israel free of duty or certain fees or other import charges, consistent with the 1996 Agreement. This Proclamation included appropriate tariff modifications, the terms of which are set forth in Subchapter VIII, Chapter 99, Harmonized Tariff Schedule of the United States (HTSUS).

On December 31, 2001, the United States entered into an agreement with Israel to extend the 1996 Agreement through December 31, 2002, in order to allow for additional time to negotiate a successor arrangement to the 1996 Agreement. Accordingly, pursuant to section 4(b) of the FTA Act, President Bush issued Proclamation 7554 of May 3, 2002, to extend, through the close of December 31, 2002, the U.S. commitments under the 1996 Agreement. The Annex to this Proclamation set forth appropriate modifications to the HTSUS which, under the terms of the Proclamation, are effective with respect to goods that are the product of Israel and are entered, or withdrawn from warehouse for consumption, on or after January 1, 2002, including entries for which the liquidation of duties has not become final under section 514 of the Tariff Act of 1930, as amended (19 U.S.C. 1514).

Entry Amendment Procedures

In the case of products that are eligible for treatment under Subchapter VIII, Chapter 99, HTSUS, as modified by Proclamation 7554, but for which no claim for that treatment was made because the products were entered, or withdrawn from warehouse for consumption, on or after January 1, 2002, and before the publication of this notice, and provided that liquidation has not become final under 19 U.S.C. 1514 with respect to those products, importers may avail themselves of one of the following procedures in order to make a retroactive claim for that treatment:

1. The importer may amend the entry by filing a Supplementary Information Letter (SIL) with Customs. For the policy on SILs, ABI users should see Administrative Message 97-0727 dated August 3, 1997, and non-ABI filers should contact the local Customs port office;

2. The importer may make a Post Entry Amendment (PEA) in accordance with the requirements and procedures set forth in the notice published in the Federal Register (65 FR 70872) on November 28, 2000, regarding the PEA test program. The operation of the PEA test program was extended to December 31, 2002, by a notice published in the Federal Register (67 FR 768) on January 7, 2002; or

3. The importer may file a protest in accordance with 19 U.S.C. 1514 and 1515 and Part 174 of the Customs Regulations (19 CFR part 174).

Submission of a retroactive claim under one of the procedures mentioned above does not automatically guarantee the refund of duties deposited with Customs, and Customs notes in this regard that the applicable calendar year 2002 quota provided for under Subchapter VIII, Chapter 99, HTSUS, must be available when the retroactive claim is made. In addition, no refund will apply in the case of additional duties paid as safeguard measures under Chapter 99 of the HTSUS.

Dated: May 22, 2002.
Bonni G. Tischler,
Assistant Commissioner, Office of Field Operations.

[FR Doc. 02-13224 Filed 5-24-02; 8:45 am]

BILLING CODE 4820-02-P